DEPARTMENT OF TRANSPORTATION

Federal Aviation Administration

Agency Information Collection Activity Under OMB Review

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 15, 2006, Vol. 71, No. 50, page 13446-13447. Information is collected to provide services to aircraft in-flight and protection of persons/property on the ground.

DATES: Please submit comments by September 20, 2006.

FOR FURTHER INFORMATION CONTACT: Carla Mauney at Carla.Mauney@faa.gov.

SUPPLEMENTARY INFORMATION:

Federal Aviation Administration (FAA)

Title: Flight Plans (Domestic/International).

Type of Request: Revision of a currently approved collection.

OMB Control Number: 2120-0026.

Forms(s): FAA Forms 7233-1, 7233-4.

Affected Public: An estimated 300,000 Respondents.

Abstract: Title 49 U.S.C., paragraph 40103(b) authorizes regulations governing the flight of aircraft. 14 CFR part 91 prescribes requirements for filing domestic and international flight plans. Information is collected to provide services to aircraft in-flight and protection of persons/property on the ground.

Estimated Annual Burden Hours: An estimated 17,246,826 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on August 14, 2006.
Carla Mauney,
FAA Information Collection Clearance Officer, Information Systems and Technology Services Staff, ABA-20.

[FR Doc. 06-7064 Filed 8-18-06; 8:45 am]

BILLING CODE 4910-13-M